COMMITTEE FOR PURCHASE FROM PEOPLE WHO ARE BLIND OR SEVERELY DISABLED

Procurement List; Additions and Deletion

AGENCY: Committee for Purchase From People Who Are Blind or Severely Disabled.

ACTION: Additions to and Deletion from the Procurement List.

SUMMARY: This action adds products and a service to the Procurement List that will be furnished by nonprofit agencies employing persons who are blind or have other severe disabilities, and deletes a service from the Procurement List previously provided by such agency.

DATES: Effective Date: 12/8/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 10/3/2014 (79 FR 59750-59751), the Committee for Purchase From People Who Are Blind or Severely Disabled published notice of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 USC 8501-8506) in connection with the products and service proposed for addition to the Procurement List.

End of Certification

Accordingly, the following products and service are added to the Procurement List:

Products

Work Lamp

NSN: 6230-00-NIB-0060—Extendable, Torch Style, Rubber Grip, LED, Rechargeable.

NSN: 6230-00-NIB-0061—Baton Style, Rubber Grip, LED, Rechargeable.

NSN: 6230-00-NIB-0062—Aluminum Frame, Superbright, COB LED, Rechargeable.

NPA: Industries for the Blind, Inc., West Allis, WI.

Contracting Activity: Defense Logistics Agency Troop Support, Philadelphia, PA.

Coverage: B-List for the Broad Government Requirement as aggregated by the Defense Logistics Agency Troop Support, Philadelphia, PA.

Sweatshirt, Physical Fitness, USMC, Unisex, Long Sleeve

NSN: 8415-00-SAM-3800—Black, Size X-Large.

NSN: 8415-00-SAM-3801—Black, Size Small.

NSN: 8415-00-SAM-3802—Black, Size Medium.

NSN: 8415-00-SAM-3803—Black, Size Large.

NSN: 8415-00-SAM-3804—Black, Size X-Large.

NSN: 8415-00-SAM-3805—Maroon, Size Small.

NSN: 8415-00-SAM-3806—Maroon, Size Medium.

NSN: 8415-00-SAM-3807—Blue, Size Medium.

NSN: 8415-00-SAM-3808—Yellow, Size Medium.

NSN: 8415-00-SAM-3809—Yellow, Size Small.

NSN: 8415-00-SAM-3810—Yellow, Size Large.

NSN: 8415-00-SAM-3811—Green, Size Medium.

NSN: 8415-00-SAM-3812—Red, Size Small.

NSN: 8415-00-SAM-3813—Red, Size Medium.

NSN: 8415-00-SAM-3814—Red, Size Large.

NSN: 8415-00-SAM-3815—Blue, Size Small.

T-Shirt, Mesh, Physical Fitness, USMC, Unisex, Short Sleeve

NSN: 8415-00-SAM-3771—Gold, Size Small.

NSN: 8415-00-SAM-3772—Gold, Size Medium.

NSN: 8415-00-SAM-3773—Gold, Size Large.

NSN: 8415-00-SAM-3774—Gold, Size X-Large.

NSN: 8415-00-SAM-3775—Blue, Size Small.

NSN: 8415-00-SAM-3776—Blue, Size Medium.

NSN: 8415-00-SAM-3777—Blue, Size Large.

NSN: 8415-00-SAM-3778—Blue, Size X-Large.

NSN: 8415-00-SAM-3779—Maroon, Size X-Small.

NSN: 8415-00-SAM-3780—Maroon, Size Small.

NSN: 8415-00-SAM-3781—Maroon, Size Medium.

NSN: 8415-00-SAM-3782—Red, Size Small.

NSN: 8415-00-SAM-3783—Red, Size Medium.

NSN: 8415-00-SAM-3784—Red, Size Large.

NSN: 8415-00-SAM-3785—Red, Size X-Large.

NSN: 8415-00-SAM-3786—Gray, Size Small.

NSN: 8415-00-SAM-3787—Gray, Size Medium.

NSN: 8415-00-SAM-3788—Gray, Size Large.

NSN: 8415-00-SAM-3789—Green, Size X-Small.

NSN: 8415-00-SAM-3790—Green, Size Small.

NSN: 8415-00-SAM-3791—Green, Size Medium.

NSN: 8415-00-SAM-3792—Green, Size Large.

NSN: 8415-00-SAM-3793—Black W/Weapons Logo, Size Small.

NSN: 8415-00-SAM-3794—Black W/Weapons Logo, Size Medium.

NSN: 8415-00-SAM-3795—Black W/Weapons Logo, Size Large.

NSN: 8415-00-SAM-3796—Gray, Size X-Small.

NSN: 8415-00-SAM-3797—Black W/Drill Instructor Logo, Small.

NSN: 8415-00-SAM-3798—Black W/Drill Instructor Logo, Medium.

NSN: 8415-00-SAM-3799—Black W/Drill Instructor Logo, Large.

NPA: Beaufort Vocational Rehabilitation Center, Beaufort, SC.

Contracting Activity: Department of the Navy, Commanding General, Marine Corps Recruiting Depot, Parris Island, SC.

Coverage: C-List for 100% of the requirement of the U.S. Marine Corps Parris Island Recruiting Depot, as aggregated by the Commanding General, U.S. Marine Corps Parris Island Recruiting Depot, Parris Island, SC.

Service

Service Type/Locations: Custodial Service.

Architect of the Capitol, Dirksen Senate Office Building, 1st and C Streets NE, Washington, DC.

Hart Senate Office Building, 2nd and C Streets NE, Washington, DC.

Russell Senate Office Building, 1st and Constitution Avenue NE, Washington, DC.

NPA: Davis Memorial Goodwill Industries, Washington, DC.

Contracting Activity: Architect of the Capitol, U.S. Capitol Building, Washington, DC.

Deletion

On 10/3/2014 (79 FR 59750-59751), the Committee for Purchase From People Who Are Blind or Severely Disabled published notice of proposed deletion from the Procurement List.

After consideration of the relevant matter presented, the Committee has determined that the service listed below is no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing a small entity to provide the service to the Government.

3. There are no known regulatory alternatives which would accomplish the objectives of the Javits-Wagner-O'Day Act (41 USC 8501-8506) in connection with the service deleted from the Procurement List.

End of Certification

Accordingly, the following service is deleted from the Procurement List:

Service

Service Type/Location: Janitorial/Custodial Service.

Department of Agriculture, Kootenai National Forest, Libby Ranger Station, Libby, MT.

NPA: Lincoln Training Center and Rehabilitation Workshop, South El Monte, CA.

Contracting Activity: Department of Agriculture, Procurement Operations Division, Washington, DC.

Barry S. Lineback,
Director, Business Operations.

[FR Doc. 2014-26482 Filed 11-6-14; 8:45 am]

BILLING CODE 6353-01-P